DEPARTMENT OF ENERGY

Federal Energy Regulatory Commission

Combined Notice of Filings #1

Take notice that the Commission received the following electric rate filings:

Docket Numbers: ER10-2238-003; ER10-2239-003; ER10-2237-002.

Applicants: Indigo Generation LLC, Larkspur Energy LLC, Wildflower Energy LP.

Description: Indigo Generation LLC, et al submits Notice of Non-Material Change in Status.

Filed Date: 12/2/11.

Accession Number: 20111202-5188.

Comments Due: 5 p.m. ET 12/23/11.

Docket Numbers: ER10-2906-005; ER10-2908-005; ER10-2911-005;ER10-2909-005; ER10-2910-005; ER10-2900-005; ER10-2899-005; ER10-2898-005; ER11-4393-002; ER11-4355-001

Applicants: Naniwa Energy LLC, Power Contract Financing II, LLC, South Eastern Electric Development Corp., South Eastern Generating Corp., Morgan Stanley Capital Group Inc., MS Solar Solutions Corp., Power Contract Financing II, Inc., Utility Contract Financing II, LLC,TPW Petersburg, LLC,TAQA Gen X LLC.

Description: Notice of Non-Material Change in Status of Morgan Stanley Capital Group Inc., et al.

Filed Date: 12/1/11.

Accession Number: 20111201-5239.

Comments Due: 5 p.m. ET 12/22/11.

Docket Numbers: ER11-2705-002.

Applicants: California Independent System Operator Corporation.

Description: 2011-12-02 CAISO RTTP Compliance to be effective 12/20/2010.

Filed Date: 12/2/11.

Accession Number: 20111202-5111.

Comments Due: 5 p.m. ET 12/23/11.

Docket Numbers: ER12-114-002.

Applicants: Southwestern Electric Power Company.

Description: 20111202 Hope PSA to be effective 12/17/2010.

Filed Date: 12/2/11.

Accession Number: 20111202-5192.

Comments Due: 5 p.m. ET 12/23/11.

Docket Numbers: ER12-202-002.

Applicants: Southwestern Electric Power Company.

Description: 20111202 Prescott Revised PSA to be effective 12/17/2010.

Filed Date: 12/2/11.

Accession Number: 20111202-5181.

Comments Due: 5 p.m. ET 12/23/11.

Docket Numbers: ER12-203-002.

Applicants: Southwestern Electric Power Company.

Description: 20111202 Minden Revised PSA to be effective 12/17/2010.

Filed Date: 12/2/11.

Accession Number: 20111202-5180.

Comments Due: 5 p.m. ET 12/23/11.

Docket Numbers: ER12-523-000.

Applicants: Vectren Retail, LLC.

Description: Notice of Cancellation of MBR Tariff and Request for Expedited Action to be effective 12/28/2011.

Filed Date: 12/2/11.

Accession Number: 20111202-5096.

Comments Due: 5 p.m. ET 12/19/11.

Docket Numbers: ER12-524-000.

Applicants: Longview Power, LLC.

Description: Reactive Service Rate Filing to be effective 1/1/2012.

Filed Date: 12/2/11.

Accession Number: 20111202-5097.

Comments Due: 5 p.m. ET 12/23/11.

Docket Numbers: ER12-525-000.

Applicants: PJM Interconnection, LLC.

Description: Revisions to the PJM Tariff & OA re the ELR Cost Allocation Proposal to be effective 2/1/2012.

Filed Date: 12/2/11.

Accession Number: 20111202-5099.

Comments Due: 5 p.m. ET 12/23/11.

Docket Numbers: ER12-526-000.

Applicants: Southwest Power Pool, Inc.

Description: Order No. 719 Ministerial Filing to be effective 7/26/2010.

Filed Date: 12/2/11.

Accession Number: 20111202-5139.

Comments Due: 5 p.m. ET 12/23/11.

Docket Numbers: ER12-528-000.

Applicants: Southwest Power Pool, Inc.

Description: Revisions to Attachment AE—Section 1.2.2 Application & Asset Registration to be effective 1/1/2012.

Filed Date: 12/2/11.

Accession Number: 20111202-5195.

Comments Due: 5 p.m. ET 12/23/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2011.
Nathaniel J. Davis, Sr.,
Deputy Secretary.

[FR Doc. 2011-31791 Filed 12-9-11; 8:45 am]

BILLING CODE 6717-01-P